DEPARTMENT OF AGRICULTURE

Forest Service

Notice of New Fee Sites; Federal Lands Recreation Enhancement Act, (Title VIII, Pub. L. 108-447)

AGENCY: Intermountain Region, Forest Service, USDA.

ACTION: Notice of new fee site.

SUMMARY: The Boise National Forest will begin charging fees for the overnight rental of Cottonwood Guard Station, including the Bunkhouse ($35/night), Research House ($40/night), and Ranger House ($40/night). The Dixie National Forest will begin charging fees for the overnight rental of Cowpuncher Guard Station ($45/night), Jones Corral Guard Station ($30/night), and Podunk Guard Station ($30/night). Rentals of other guard station cabins throughout the Intermountain Region have shown that publics appreciate and enjoy the availability of historic rental cabins. Funds from the rental will be used for the continued operation and maintenance of recreation sites.

DATES: The guard station cabins will become available for rent May 2006.

ADDRESSES: Forest Supervisor, Boise National Forest, 1249 South Vinnell Way, Suite 200, Boise, ID 83709; Forest Supervisor, Dixie National Forest, 1789 North Wedgewood Land, Cedar City, UT 84720.

FOR FURTHER INFORMATION CONTACT: Vicki Lawson, Regional Recreation Fee Coordinator, 801-625-5205.

SUPPLEMENTARY INFORMATION: The Federal Recreation Lands Enhancement Act (Title VII, Pub. L. 108-447) directed the Secretary of Agriculture to publish an advance notice in the Federal Register whenever new recreation fee areas are established.

The Intermountain Region currently offers over 40 other cabin rentals, including guard stations and fire lookouts. These often are fully booked throughout their rental season. A business analysis of the cabins has shown that people desire having this sort of recreation experience on the Boise and Dixie National Forests and that the fees charged are both reasonable and acceptable for this sort of unique recreation experience.

People wanting to rent these guard station cabins will need to do so through the National Recreation Reservation Service, at http://www.reserveusa.com or by calling 1-877-444-6777. The National Recreation Reservation Service charges a $9 fee for reservations.

Dated: December 19, 2005.
Jack Troyer,
Regional Forester, Intermountain Region.

[FR Doc. 05-24693 Filed 12-30-05; 8:45 am]

BILLING CODE 3410-11-M